Proclamation 9138 of May 30, 2014

National Oceans Month, 2014

By the President of the United States of America

A Proclamation

Americans look to the oceans as natural treasures, a source of food and energy, and a foundation for our way of life. Our oceans, coasts, and Great Lakes provide jobs and attract tourism. They provide a habitat for scores of species. They are vital to our Nation's transportation, economy, and trade, linking us with countries across the globe and playing a role in our national security. This month, we reaffirm our responsibility to keep our oceans and coastal ecosystems healthy and resilient.

Meeting this responsibility requires us to reduce pollution, prevent habitat loss, support sustainable fisheries, and prepare for the unavoidable impacts of climate change. To tackle these challenges, my Administration is taking action to deliver on the commitments in our National Ocean Policy. Through this policy, we are striving to improve coordination across all levels of government, enhance efficiency, better our capability to collect and share information, and adopt ecosystem-scale planning and management. The Federal Government is working in coastal regions with States and tribes to support communities as they develop the solutions that work best for them. By taking these steps, we can safeguard these treasured ecosystems and conserve resources that help drive our economy.

During National Oceans Month, let us remember our obligations to good ocean stewardship. Let us celebrate the bounty our marine ecosystems provide by sustaining them for generations to come.

NOW, THEREFORE, I, BARACK OBAMA, President of the United States of America, by virtue of the authority vested in me by the Constitution and the laws of the United States, do hereby proclaim June 2014 as National Oceans Month. I call upon Americans to take action to protect, conserve, and restore our oceans, coasts, and Great Lakes.

IN WITNESS WHEREOF, I have hereunto set my hand this thirtieth day of May, in the year of our Lord two thousand fourteen, and of the Independence of the United States of America the two hundred and thirty-eighth.

[FR Doc. 2014-13160

Filed 6-3-14; 11:15 am]

Billing code 3295-F4